DEPARTMENT OF TRANSPORTATION

Federal Transit Administration

Environmental Impact Statement for the East Contra Costa BART Extension, California

AGENCY: Federal Transit Administration, U.S. Department of Transportation.

ACTION: Notice of intent to prepare an Environmental Impact Statement (EIS).

SUMMARY: The Federal Transit Administration (FTA) and the San Francisco Bay Area Rapid Transit District (BART) intend to prepare a joint Environmental Impact Statement (EIS) pursuant to the National Environmental Policy Act (NEPA) and Environmental Impact Report (EIR) pursuant to the California Environmental Quality Act (CEQA) for proposed transit service to eastern Contra Costa County. The project would extend service from the existing BART terminus station at Pittsburg/BayPoint, through the communities of Pittsburg, Antioch, Brentwood, and Oakley, to a new terminus in Byron. The corridor generally follows State Route 4 through the eastern part of the county. As an extension of BART service into Eastern Contra Costa County, the project, commonly referred to as “eBART,” is intended to improve travel in the increasingly congested State Route 4 corridor by providing direct coordinated connections to the BART system. An earlier planning and feasibility study completed in 2002 evaluated a wide range of alternatives and recommended an innovative transit service concept, which employs light-weight, self-propelled rail cars known as Diesel Multiple Units (DMUs) on right-of-way to be acquired from the Union Pacific Railroad. Service with DMUs is intended to provide a seamless connection to the existing BART service but at a much lower cost.

The EIS/EIR will evaluate the DMU alternative (the Proposed Action) and will also evaluate a no build alternative, a bus rapid transit alternative, and a conventional BART extension to Hillcrest Avenue in Antioch. Other alternatives may also surface during the scoping process. Based on the presentation of the Proposed Action, project alternatives, and breadth of the environmental analysis described below, please let us know of your views regarding the scope and content of the EIS/EIR. Your suggestions can be communicated at the scoping meeting or via email or letter to the contact person identified below.

DATES: Comment Due Date: Written comments regarding the scope of alternatives and impacts to be considered should be sent to BART by August 20, 2005. Scoping Meeting: A public scoping meeting is scheduled for Antioch, July 19, 2005 at 7 p.m. at the Dallas Ranch Middle School, and a second public scoping meeting is scheduled for Brentwood, July 20, 2005 at 7 p.m. at the Brentwood Council Chamber. See ADDRESSES below.

ADDRESSES: Written comments on project scope should be sent to Ms. Ellen Smith, San Francisco Bay Area Rapid Transit District, 300 Lakeside Drive, 16th floor, Oakland, CA 94612. An information packet describing the purpose of the project, the proposed alternatives, the impact areas to be evaluated, the citizen involvement program, and the preliminary project schedule will be made available at the scoping meeting. Others may request the scoping materials or to be placed on the mailing list to receive further information as the project continues by contacting Ms. Ellen Smith at BART at (510) 287-4758 and at the above address.

The scoping meetings will be held at: Dallas Ranch Middle School, 1401 Mt. Hamilton Drive, Antioch, CA 94531, Transit access is via Tri Delta Route 380.

Brentwood Council Chamber, 734 3rd Street, Brentwood, California 94513, Transit access is via Tri Delta Routes 300 and 391.

The buildings for the scoping meetings are accessible to persons with disabilities. People with special needs should call Ellen Smith at least 72 hours prior to the scoping meeting at the number listed in ADDRESSES.

FOR FURTHER INFORMATION CONTACT: Ms. Lorraine Lerman, Community Planner, FTA Region IX, 201 Mission Street, Suite 2210, San Francisco, CA 94105. Phone: (415) 744-3115. Fax: (415) 744-2726. Information about the project can also be obtained from the project Web site, http://www.ebartproject.org.

SUPPLEMENTARY INFORMATION: FTA and BART invite interested individuals, organizations, and federal, state, and local agencies to participate in defining the alternatives to be evaluated in the EIS/EIR and identifying any significant environmental issues related to the alternatives. The meeting is also being advertised in the San Francisco Chronicle, Contra Costa Times, Concord Transcript, Southeast Antioch News, Ledger Dispatch, Brentwood News, and Oakley News. During scoping, comments should focus on identifying specific environmental impacts to be evaluated and suggesting alternatives that have fewer environmental impacts while achieving the objectives noted below under Purpose and Need. Comments should focus on the issues and alternatives for analysis, and not on a preference for a particular alternative. Individual preference for a particular alternative should be communicated during the comment period for the Draft EIS/EIR.

I. Description of Study Area, Project Background and Scope

The planning and development of transportation improvements within the State Route 4 East Corridor has been ongoing since the late 1980s. These efforts have led to the widening of State Route 4 from Willow Pass Road in Concord to Railroad Avenue in Pittsburg. Plans and studies to continue the highway widening through the Loveridge Road interchange are underway under the direction of the Contra Costa Transportation Authority (CCTA). In addition, the BART extension to Pittsburg/Bay Point opened in 1996. The station serves over 10,000 persons entering and exiting the BART system each weekday.

In 2001, BART and CCTA commenced the State Route 4 East Corridor Transit Study to explore a series of alternative transit improvements. (The study is available at the project Web site: http://www.ebartproject.org in the Library section under “2002 Feasibility Study.”) This feasibility study, steered by a Policy Advisory Committee of elected and appointed local officials and a BART Board representative, started with a long list of nearly 20 potential types of transit and transportation improvements. Among these alternatives were continuation of existing BART service in the median of State Route 4 to Hillcrest Avenue; continuation of existing BART service in the median of State Route 4 to Loveridge Road and then to Hillcrest Avenue using the Union Pacific line; extension of transit services using Bus Rapid Transit technology; extension of transit services using commuter rail; and expansion of express bus service by Tri Delta Transit District, the local transit operator. Through an iterative process of screening and refinement, involving public discussions, engineering and cost evaluations, and ridership estimates, the long list of alternatives was winnowed down to eight viable alternatives referred to as Packages A through H. The Packages can be found on the project Web site in the State Route 4 East Corridor Transit Study.

The study culminated in 2002 with a unanimous recommendation by the Policy Advisory Committee, and direction from both the BART and CCTA Boards, to proceed to environmental analyses and preliminary engineering. The highest rated transit alternative was DMU service in an alignment in the State Route 4 median between the Pittsburg/BayPoint BART Station and Loveridge Road, and then to Byron via the Union Pacific Mococo Line, with single track service between the Hillcrest and Byron stations. This alternative was Package C-1 in the feasibility study, and is now the Proposed Action. This 23-mile corridor was proposed to include five transit stations. The recommended rail technology involves trains using light-weight, self-propelled rail cars known as Diesel Multiple Units (DMUs). Passengers on the DMUs would transfer to the existing BART line, ideally with a short walk across or along the BART platform. A train storage yard and maintenance facility was proposed east of Hillcrest Avenue. As proposed, the eBART project would include new grade separations in Antioch at Somersville Road, A Street, and Hillcrest Avenue. Also, local bus service offered by Tri Delta Transit District would be modified to eliminate routes that duplicate eBART service, synchronize headways with eBART schedules, and redefine routes to feed eBART stations.

In 2004, local voters passed Regional Measure 2 and Measure J in Contra Costa County, supporting a local sales tax increase for transportation improvements. In addition, on March 23, 2005, the Metropolitan Transportation Commission approved the use of funds from Regional Measure 2 for additional study of transit service improvements in the East Contra Costa Corridor. In response to these developments, FTA and BART are now embarking on an EIS/EIR for the eBART project.

II. Purpose and Need

The East Contra Costa County study area is the fastest growing portion of the San Francisco Bay Region. Between the years 2000 and 2025, an additional 40,000 households and 63,000 jobs are expected to be added in the East County. This growth in population and jobs portend a dramatic increase in traffic delay and congestion on State Route 4, the primary access route to this part of the Bay Area, with associated impacts on environmental resources including air quality and energy. Given the foreseeable growth in the eastern portion of the County, highway improvements alone cannot keep pace with the travel demand or address environmental impacts associated with motor vehicle travel.

The purpose of the Proposed Action, is to improve travel along the State Route 4 East corridor with direct, coordinated connections to the existing BART system. In light of the regional and local need for an improved transit connection, the Proposed Action objectives are the same as those identified in the 2002 East County corridor study:

• Improve transportation service;

• Maximize access to transit system;

• Maximize connectivity and seamlessness of transit system, both from home to transit and from one form of transit to another;

• Promote transit-oriented land use initiatives and policies;

• Maximize economic benefits and financial feasibility;

• Balance short, medium, and long-term strategies to provide continual improvements in transit services; and

• Protect or enhance the environment.

In particular, as the first new extension proposed since BART adopted its System Expansion Policy in 1999, the eBART project purpose incorporates BART's goal of enhancing ridership by coordinating transit projects with local land use planning. Jurisdictions within the eBART corridor will commit to a process intended to attain a corridor-wide ridership target. The target is to be achieved by adopting transit supportive land uses and making access improvements at transit stations. Ridership Development Plans incorporating land use changes and access improvements are to be completed and adopted by the cities and the County. BART, the cities, and the County will enter into a Memorandum of Understanding describing BART's intent to move forward with the environmental review process and the corridor communities' intent to engage in the planning and implementation programs to achieve BART's ridership goals.

III. Alternatives

As noted above, the Proposed Action is the provision of DMU service in an alignment in the State Route 4 median between the Pittsburg/BayPoint BART Station and Loveridge Road, and then to Byron via the Union Pacific Mococo Line, with single track service between the Hillcrest and Byron stations. Specific alternatives to the Proposed Action are expected to evolve during the environmental review process and in response to the public scoping process. While a number of alternatives were discussed and evaluated as part of the earlier planning/feasibility study, project alternatives expected to be evaluated in the EIS/EIR include:

• A No Build, or No Project, Alternative that considers the consequences of not extending rail transit services beyond the Pittsburg/BayPoint BART Station. This alternative would involve continuation of the existing Tri Delta Transit District and implementation of additional express bus service from East County communities to BART;

• A Bus Rapid Transit Alternative that considers technical and operational transit improvements using buses in the same alignment as the DMU project (freeway median and railroad right of way). The system seeks to emulate the service levels provided by a fixed guideway rail system. Amenities would be provided at stations, and portions of the route could be constructed with exclusive transit lanes or other transit preferential treatments in order to bypass areas of localized traffic congestion; and

• A conventional BART Alternative that using BART vehicles and systems in the same alignment as the DMU project (freeway median and railroad right of way). This alternative would consist of an extension of the electrically-powered, exclusive-use right of way BART system with one station at Hillcrest Avenue and a yard facility.

IV. Probable Effects

The purpose of the EIS/EIR is to fully disclose the social, economic, and environmental consequences of building and operating eBART in advance of any decisions to make substantial financial or other commitments to its implementation. The EIS/EIR will explore the extent to which the project alternatives result in potentially significant social, economic, and environmental effects and identify appropriate actions to reduce or eliminate these impacts. Issues that will be investigated in the EIS/EIR include transportation, traffic, and circulation effects; land use compatibility and consistency with locally adopted plans including the Regional Transportation Plan, the Transportation Improvement Plan and the State Implementation Plan; potential effects on local businesses and employment; disturbance to sensitive visual and cultural resources; effects of noise and vibration; geologic and hydrology effects; potential disturbance to sensitive wildlife and vegetation species and habitats; air and noise emissions from project-related construction and operation; public health and safety concerns related to exposure to hazardous materials; community service and utility demand; direct or indirect effects to public parklands, significant historic resources, or wildlife refuges; and environmental justice concerns from any disproportionate impacts of the project alternatives on low-income or ethnic minority neighborhoods.

Among the list of potential issues identified above, several will definitely warrant detailed investigation based on an environmental reconnaissance performed by BART as part of the previous planning/feasibility study completed in 2002:

• Consistency with local general plans for potential land use conflicts;

• Potential disturbance to surface waters, since the corridor traverses the Contra Costa Canal, Kirker Creek, Los Medanos Waterway, Markley Creek, the Mokelumne Aqueduct, Marsh Creek, Main Canal, Kellogg Creek, the Byron-Bethany Irrigation Canal, and unnamed drainages;

• Potential flood hazards related to overflowing of Kirker Creek, Marsh Creek, Kellogg Creek, and an unnamed drainage north of Lone Tree Way;

• Potential disturbance to seasonal wetlands and freshwater marsh areas, including several seasonal wetlands east of the existing BART station and south of State Route 4, a large wetland complex approximately 1 mile further east along State Route 4, several creeks and drainages between Loveridge Road and Hillcrest Avenue, a large wetland complex at the bend of Highway 160, and numerous drainages and irrigation ditches south of Oakley;

• Potential disturbance to federally and state listed threatened and endangered species and their habitats;

• Potential public health hazards from exposure to soil and/or groundwater contamination associated with highway and railroad operations, as well as agricultural activities;

• Given the extensive industrial and commercial development in the corridor, historic resources evaluation and a high potential to encounter historic archaeological resources; and

• Potential impacts to nearby sensitive receptors to air and noise emissions.

V. FTA Procedures

A Draft EIS/EIR for eBART will be prepared following FTA policy and all federal laws, regulations, and executive orders affecting project development, including but not limited to the regulations of the Council on Environmental Quality and FTA implementing guidance implementing NEPA (40 CFR parts 1500-1508, and 23 CFR part 771), the Clean Air Act, section 404 of the Clean Water Act, Executive Order 12898 regarding environmental justice, the National Historic Preservation Act, the Endangered Species Act, and section 4(f) of the Department of Transportation Act to the maximum extent practicable during the NEPA process.

After its publication, the Draft EIS/EIR will be available for review and comment by interested public members and local, state, and federal agencies, and public hearings will be held on the Draft EIS/EIR. The Final EIS/EIR will consider the comments received during the Draft EIS/EIR public review and will identify the preferred alternative. Additional opportunities for public involvement have been and will continue to be provided throughout all phases of project development. FTA and BART must approve the Final EIS/EIR prior to making any decisions regarding the project.

Issued on: June 29, 2005.
Leslie T. Rogers,
Regional Administrator.

[FR Doc. 05-13268 Filed 7-5-05; 8:45 am]

BILLING CODE 4910-57-P